DEPARTMENT OF COMMERCE

National Oceanic and Atmospheric Administration

Alcoa Point Comfort/Lavaca Bay NPL Site, Point Comfort, Texas; Notice of Availability

AGENCY: National Oceanic and Atmospheric Administration, Commerce.

ACTION: Alcoa Point Comfort/Lavaca Bay NPL Site, Point Comfort, Texas: Notice of availability of the final damage assessment and restoration plan/environmental assessment for ecological injuries and service losses.

SUMMARY: Under the Comprehensive Environmental Response, Compensation and Liability Act regulations (CERCLA, 43 CFR sections 11.32 and 11.81-11.82), natural resource trustees are providing notice to the public on the availability of a document entitled, “Final Damage Assessment and Restoration Plan and Environmental Assessment for the Point Comfort/Lavaca Bay NPL Site Ecological Injuries and Service Losses” (Final DARP/EA). This document has been approved by the state and federal natural resource trustee agencies to address natural resource injuries and resource services losses of an ecological nature attributable to releases of hazardous substances from the Alcoa Point Comfort/Lavaca Bay NPL Site (Site). This DARP/EA finalizes the trustees' assessment of these natural resource injuries and service losses attributable to the Site, and the plan for restoring ecological resources and services to compensate for those injuries and losses. This Final DARP/EA also contains the trustees' evaluation of ecological losses after 1999 and all terrestrial resource injuries, and their corresponding restoration requirements, based on an anticipated final remedy. If the announced final remedy is consistent with this evaluation, this document will also constitute the final assessment and restoration plan for these remaining ecological losses.

The development of this Final DARP/EA included release of a Draft of this DARP/EA for public review and comment on July 14, 2000 (65 Fed. Reg. 43739, July 14, 2000; 25 Tex. Reg. 6843, July 14, 2000; Port Lavaca Wave, July 22 and 26, 2000; Victoria Advocate, July 25 and 27, 2000). The Draft DARP/EA described the trustees' assessment of the ecological injuries and services losses attributable to hazardous substances at the Site (including the evaluation of ecological losses after 1999 and terrestrial resource injuries based on the anticipated final remedy), evaluated a reasonable range of restoration actions with the potential to restore, replace or acquire similar resource services, and identified the restoration actions that were preferred for use to compensate for the resource injuries and losses being assessed. The period for public review and comment on the Draft DARP/EA, that ended on August 14, 2000, included a public meeting in Port Lavaca, Texas, on July 27, 2000. During the public review period, no written public comments on the document were received and all verbal comments at the public meeting were supportive of the actions proposed in the Draft DARP/EA. The Final DARP/EA has not been changed due to public review and input.

ADDRESSES: Requests for copies of this Final DARP/EA should be sent to Richard Seiler of the Texas Natural Resources and Conservation Commission (TNRCC), MC142, P.O. Box 13087, Austin, TX 78711-3087 or John Kern of the National Oceanic and Atmospheric Administration (NOAA), 9721 Executive Center Drive North, Suite 134, St. Petersburg, FL 33702. A copy of this Final DARP/EA is also available for downloading at http://www.darp.noaa.gov/publicat.htm.

FOR FURTHER INFORMATION CONTACT: Richard Selier at (512) 239-2523, e-mail: rseiler@tnrcc.state.tx.us, or John Kern at (727) 570-5391, ext 158, e-mail: john.kern@noaa.gov.

SUPPLEMENTARY INFORMATION: The Alcoa Point Comfort/Lavaca Bay NPL Site is located in Point Comfort, Calhoun County, Texas and encompasses releases of hazardous substances from Alcoa's Point Comfort Operations facility. Between 1948 and the present, Alcoa has constructed and operated several types of manufacturing processes at this facility, including aluminum smelting, carbon paste and briquette manufacturing, gas processing, chlor-alkali processing, and alumina refining. Past operations at the facility have resulted in the release of hazardous substances into the environment, including through the discharge of mercury-containing wastewater into Lavaca Bay from 1966 to 1970 and releases of mercury into the bay through a groundwater pathway. In April 1988, the Texas Department of Health (TDH) issued a “closure” order prohibiting the taking of finfish and crabs for consumption from a specified area of Lavaca Bay near the facility due to elevated mercury concentrations found in these species.

The Alcoa Point Comfort/Lavaca Bay Site was added to the National Priorities List (NPL), under section 105 of CERCLA, 42 U.S.C. 9601 et seq., on March 25, 1994 (59 FR 8724; February 23, 1994). The Site was listed primarily due to the presence of mercury in several species of finfish and crabs in Lavaca Bay, the fishing closure imposed by TDH, and the presence of mercury and other hazardous substances in bay sediments adjacent to the facility. Alcoa, the State of Texas and the U.S. Environmental Protection Agency (EPA) signed an Administrative Order on Consent (AOC) under CERCLA in March 1994 for the conduct of a remedial investigation and feasibility study (RI/FS) for the Site.

The National Oceanic and Atmospheric Administration (NOAA, acting on behalf of the Department of Commerce), the United States Department of the Interior (DOI), the Texas Parks and Wildlife Department (TPWD), the Texas General Land Office (TGLO), and the Texas Natural Resources and Conservation Commission (TNRCC) are designated natural resource trustees under section 107(f) of CERCLA, section 311 of the Federal Water Pollution and Control Act (FWPCA), 33 U.S.C. section 1321, and other applicable federal or state laws, including subpart G of the National Oil and Hazardous Substances Pollution Contingency Plan (NCP), 40 CFR sections 300.600-300.615. As trustees, these agencies are authorized to act on behalf of the public under these authorities to protect and restore natural resources injured or lost as a result of discharges or releases of hazardous substances.

Paralleling the RI/FS process for the Site, the trustees have undertaken an assessment of the natural resource injuries and service losses attributable to hazardous substances at the Site. The assessment for this Site has been aided and supported by Alcoa's cooperation under a Memorandum of Agreement between Alcoa and the Trustees, effective January 14, 1997. The Final DARP/EA released today has been developed under the cooperative assessment framework outlined in the MOA.

The Final DARP/EA released today is focused on natural resource injuries or services losses of an ecological nature caused by the hazardous substances at the Site. It completes the second stage of the assessment and restoration planning process for the Site. The first stage of the assessment process focused on recreational fishing service losses resulting from the fishing closure. The Final DARP/EA covering the recreational fishing service losses is also being released today and is the subject of a separate notice.

This Final DARP/EA finalizes the information and methods used to assess these ecological injuries and losses, including the scale of restoration actions, and the actions selected to restore, replace or acquire resources or services equivalent to those lost. The document's principal focus is on ecological losses due to known Site contamination and response actions initiated at the Site prior to the end of 1999. However, the document also includes the trustees' evaluation of ecological losses after 1999 and all terrestrial resource injuries, and their corresponding restoration requirements, based on an anticipated final remedy. If the announced final remedy is consistent with the remedy anticipated, this document will also constitute the final assessment and restoration plan for these ecological losses. If not, then additional assessment analyses may be necessary and a third and final stage DARP/EA may be required.

Dated: October 25, 2001.
Jamison S. Hawkins,
Deputy Assistant Administrator for Ocean Services and Coastal Zone Management.

[FR Doc. 01-28095 Filed 11-8-01; 8:45 am]

BILLING CODE 3510-JE-P